ENVIRONMENTAL PROTECTION AGENCY

40 CFR Parts 52 and 81

[EPA-R06-OAR-2009-0750; 9963-47-Region 6]

Approval and Promulgation of Air Quality Implementation Plans; Texas; Redesignation of the Collin County Area to Attainment the 2008 Lead Standard

AGENCY: Environmental Protection Agency (EPA).

ACTION: Direct final rule.

SUMMARY: Pursuant to the Federal Clean Air Act (CAA or the Act), the Environmental Protection Agency (EPA) is taking direct final action to determine the Collin County Lead (Pb) National Ambient Air Quality Standard (NAAQS) Nonattainment Area (NAA) has attained the 2008 Pb NAAQS and to approve a redesignation request for the area. In directly approving the redesignation request, EPA is also taking direct final action to approve as revisions to the Texas State Implementation Plan (SIP) a maintenance plan for the 2008 Pb NAAQS in the NAA submitted November 2, 2016, an attainment demonstration for the 2008 Pb NAAQS submitted October 10, 2012, and a second 10-year maintenance plan for the 1978 Pb NAAQS submitted September 15, 2009.

DATES: This rule is effective on September 27, 2017 without further notice, unless the EPA receives relevant adverse comment by July 31, 2017. If the EPA receives such comment, the EPA will publish a timely withdrawal in the Federal Register informing the public that this rule will not take effect.

ADDRESSES: Submit your comments, identified by Docket ID No. EPA-R06-OAR-2009-0750, at http://www.regulations.gov or via email to todd.robert@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact Mr. Robert M. Todd, (214) 665-2156, todd.robert@epa.gov. For the full EPA public comment policy, information about CBI or multimedia submissions, and general guidance on making effective comments, please visit http://www2.epa.gov/dockets/commenting-epa-dockets.

Docket: The index to the docket for this action is available electronically at www.regulations.gov and in hard copy at EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Robert M. Todd, (214) 665-2156, todd.robert@epa.gov. To inspect the hard copy materials, please contact Mr. Todd or Mr. Bill Deese (214) 665-7253.

SUPPLEMENTARY INFORMATION: Throughout this document whenever “we,” “us,” or “our” is used, we mean EPA. This supplementary information section is arranged as follows:

I. What actions is EPA taking?

II. What is the background for these actions?

III. What are the criteria for evaluation of the State's redesignation request and SIP revision requests?

IV. What is EPA's analysis of the State's three requests?

V. What are the effects of EPA's actions?

VI. Final Action

VII. Incorporation by Reference

VIII. Statutory and Executive Order Reviews

I. What actions is EPA taking?

EPA is taking several actions related to the redesignation of the Collin County, Texas area to attainment for the 2008 lead NAAQS. EPA is taking direct final action to:

(1) Determine the Collin County Pb NAA (comprising the part of Collin County bounded to the north by latitude 33.153 North, to the east by longitude 96.822 West, to the south by latitude 33.131 North, and to the West by longitude 96.837 West, which surrounds the Exide Technologies property), has attained the 2008 Pb NAAQS;

(2) Find that the requirements are met for redesignation of the Collin County NAA to attainment of the 2008 lead NAAQS under section 107(d)(3)(E) of the CAA and redesignate the NAA to attainment for the 2008 lead NAAQS;

(3) Approve Texas' first 10-year Maintenance Plan for continued maintenance of the 2008 Pb NAAQS in the area as a revision to the Texas SIP;

(4) Approve Texas' October 10, 2012 attainment demonstration plan, to comply with the 2008 Pb NAAQS; and,

(5) Approve Texas' September 15, 2009 second 10-year Maintenance Plan for continued maintenance of the 1978 lead NAAQS.

Our analysis for these actions are discussed in detail in the technical support document (TSD) for this action and in summary in Section IV of this action.

II. What is the background for these actions?

Section 110 of the CAA requires states to develop and submit to the EPA a SIP to ensure that state air quality meets NAAQSs. These ambient standards currently address six criteria pollutants: Carbon monoxide, nitrogen dioxide, ozone, lead, particulate matter, and sulfur dioxide. Each federally-approved SIP protects air quality primarily by addressing air pollution at its point of origin through air pollution regulations and control strategies. The EPA approved SIP regulations and control strategies are federally enforceable.

Lead is a metal found naturally in the environment as well as in manufactured products. The major sources of lead emissions have historically been from fuels used in on-road motor vehicles (such as cars and trucks) and industrial sources. As a result of EPA's regulatory efforts to remove lead from on-road motor vehicle gasoline, emissions of lead from the transportation sector dramatically declined by 95 percent between 1980 and 1999, and levels of lead in the air decreased by 94 percent between 1980 and 1999. Today, the highest levels of lead in the air are usually found near lead smelters. The major sources of lead emissions to the air today are ore and metals processing facilities and piston-engine aircraft operating on leaded aviation gasoline.

On November 12, 2008 (73 FR 66964), EPA established the 2008 primary and secondary lead NAAQS at 0.15 micrograms per cubic meter (μg/m³) based on a maximum arithmetic 3- month mean concentration for a 3-year period. See 40 CFR 50.16. On November 22, 2010 (75 FR 71033), EPA published its initial air quality designations and classifications for the 2008 lead NAAQS based upon air quality monitoring data for calendar years 2007-2009. These designations became effective on December 31, 2010. See 40 CFR 81.344.

In 2012, Exide ceased operations as a lead smelter and the entire production area of the facility was dismantled. There are no longer smelting operations at the site and no longer any point source emissions. Exide is in the process of doing site remediation under its RCRA permit. The smelting operation's lead emissions were the cause of the area's nonattainment of the lead NAAQS. Any future point source of Pb emissions in the area would be required to obtain a new source review permit. In order to obtain a new source review permit, a new facility would be required to install best available control technology to limit Pb emissions and demonstrate a violation of the Pb NAAQS would not result from construction or operation.

On November 2, 2016, the Texas Commission on Environmental Quality (TCEQ) submitted a request that the EPA redesignate the Collin County Pb NAA as attainment for the 2008 Pb NAAQS. The November 02, 2016 submittal from the state includes a demonstration that the area monitors as attainment for the 2008 Pb NAAQS, an approvable SIP meeting the requirements of Section 110 and Part D of the CAA, an attainment emissions inventory, a maintenance plan, a monitoring plan and contingency measures to assure compliance.

On October 10, 2012, TCEQ submitted a SIP revision with an attainment demonstration plan to comply with the 2008 Pb NAAQS as required by the CAA. The submittal contained the demonstration plan, monitoring plan, contingency measures to bring the area into compliance if an exceedance were detected, a Pb emission inventory, a demonstration the state employs a Pb nonattainment New Source Review program, a Pb Reasonably Available Control Measure (RACM) analysis, a Reasonably Achievable Control Technology (RACT) analysis and a Pb Reasonable Further Progress demonstration. A full review of this submittal can be found in the TSD for this action which is located in the docket at EPA-R06-OAR-2009-0750. This attainment plan stipulates controls and actions the Exide facility must implement to bring the area into attainment. However, since the facility's operations have ceased since this plan was submitted, the controls specified are no longer necessary as the controls included in the plan apply to a facility that no longer operates.

On September 15, 2009, TCEQ submitted a second 10-year maintenance plan to demonstrate compliance with the 1978 Pb NAAQS as required by the CAA. The 1978 Pb NAAQS set the standard at 1.5 μg/m³, averaged over a calendar year. EPA did not take action on that submittal at the time due to the 2008 revision of the Pb NAAQS which significantly lowered the 1978 Pb standard. Efforts by the EPA and TCEQ were focused on bringing the NAA into compliance with the more stringent 2008 standard rather than processing that submittal.

III. What are the criteria for evaluation of the State's redesignation request and SIP revision requests?

A. The 2016 Request To Redesignate the Collin County Pb NAA to Attainment

The CAA sets forth the requirements for redesignation of a NAA to attainment. Specifically, section 107(d)(3)(E) of the CAA allows for redesignation provided that: (1) The Administrator determines that the area has attained the applicable NAAQS based on current air quality data; (2) the Administrator has fully approved an applicable SIP for the area under section 110(k) of the CAA; (3) the Administrator determines that the improvement in air quality is due to permanent and enforceable emission reductions resulting from implementation of the applicable SIP, Federal air pollution control regulations, or other permanent and enforceable emission reductions; (4) the state containing the area has met all requirements applicable to the area for purposes of redesignation under section 110 and part D of the CAA; and (5) the Administrator has fully approved a maintenance plan for the area meeting the requirements of section 175A of the CAA.

B. The 2012 Attainment Plan for the 2008 Pb NAAQS

Section 172 of the CAA, along with implementation guidance published by EPA for the 2008 Pb standard,¹ requires the state to submit a SIP revision containing an analysis of reasonably available control measures and reasonably available control technology; a demonstration of attainment through air dispersion modeling; a control strategy demonstration; an emissions inventory; a demonstration of reasonable further progress and, contingency measures to be undertaken if the area fails to make reasonable further progress or attain the NAAQS by the attainment deadline.

¹ See 73 FR 66964, November 12, 2008.

C. The 2009 Second 10-Year Maintenance Plan for the 1978 Pb NAAQS

Texas submitted and requested our approval of a second 10-year maintenance plan. This plan is required by Section 175A(b) of the CAA which states that a state must submit a SIP revision for maintenance of the Primary NAAQS for a second 10-year period following expiration of the first 10-year maintenance plan. The maintenance plan must contain a commitment to monitor ambient air quality to determine whether air quality meets the NAAQS and a requirement to implement one or more contingency measures if a quarterly average exceeds the 1978 Pb NAAQS of 1.5 μg/m³.

IV. What is EPA's analysis of the State's three requests?

A. Analysis of the 2016 Request To Redesignate the Collin County Pb NAA To Attainment

EPA can approve a redesignation request when five conditions are met. We have determined all five conditions are met and we are approving the state's redesignation request. The basis for this analysis follows our established procedures.² A complete and thorough analysis of how the Texas meets the requirements for redesignation can be found in the TSD to this notice. A brief discussion of how these conditions are met is presented below.

² See “Procedures for Processing Requests to Redesignate Areas to Attainment” Memorandum from John Calcagni, September 4, 1992. https://www.epa.gov/sites/production/files/2016-03/documents/calcagni_memo_-_procedures_for_processing_requests_to_redesignate_areas_to_attainment_090492.pdf.

1. The Area Has Attained the 2008 Pb NAAQS

Monitoring data for the area shows that the 2008 Pb NAAQS was attained. As demonstrated in Table 1, below, the 2013-2015 “design value” for the area was 0.08 μg/m ³, well below the 2008 Pb standard of 0.15 μg/m ³. Design values are used to determine whether the NAAQS is met (see page 4 of the accompanying TSD). For convenience, we are detailing the observed monitoring data showing the area is in attainment of the standard in Table 1 below;

Table 1—Monitored Lead Design Values for the Collin County Lead Nonattainment Area
Site identification No. | Site name | Site address * | 2013 Annual maximum rolling three month average ** | 2014 Annual maximum rolling three month average ** | 2015 Annual maximum rolling three month average ** | Design value 2013-2015 **
480850003 | Frisco 5th Street | 7471 South 5th Street | 0.05 | 0.01 | 0.01 | 0.05
480850007 | Frisco 7 | 6931 Ash Street | 0.02 | 0.02 | 0.00 | 0.02
480850009 | Frisco Eubanks | 6601 Eubanks | 0.08 | 0.02 | 0.01 | 0.08
480850029 | Frisco Stonebrook | 7202 Stonebrook Parkway | 0.07 | 0.01 | 0.01 | 0.07
* All locations in Frisco, Texas.
** μg/m ³.

2. The Area Has a Fully Approved SIP

Section 110(k) of the CAA requires the state meet all criteria for completeness. This means all deadlines for action; criteria for full, partial, or conditional approval; and provisions for SIP revisions and corrections must have been met been met before we can approve the state's request for redesignation from nonattainment to attainment under the 2008 Pb NAAQS. With our approval of the attainment demonstration SIP revision the area has a fully approved SIP to address the 2008 Pb NAAQS (see page 5 of the TSD);

3. The Improvement in Air Quality Is Due to Permanent and Enforceable Emission Reductions

With the state's demonstration that the Exide facility has been permanently shut down and that any future sources of Pb emissions in the area will be required to demonstrate compliance with the 2008 Pb NAAQS, we find the improvement in air quality is due to permanent and enforceable reductions in emissions and applicable Federal air pollution control regulations (see page 5 of the TSD);

4. The Area Has a Fully Approved Maintenance Plan

The state has provided an appropriate maintenance plan to assure on-going attainment with the 2008 Pb NAAQS as required by Section 175A of the CAA. The maintenance plan submitted as part of the redesignation request demonstrates continued attainment of the 2008 Pb NAAQS for at least ten years by establishing an emission inventory baseline and committing to maintaining the Pb emission in the area below the level at which the area reached attainment. The state also provided a commitment to revise the maintenance plan for a second ten-year period as required by Section 175A of the CAA to assure compliance with the 2008 Pb NAAQS is maintained (see page 8 of the TSD).

As demonstrated in Table 1, above, the annual maximum rolling three-month average at any of the four monitors in the NAA was 0.08 μg/m ³ well below the 2008 Pb standard of 0.15 μg/m ³. Therefore, the area has attained the NAAQS and the State has demonstrated that the area will maintain attainment of the standard; and,

5. The Section 110 and Part D Requirements for the 2008 Pb SIP Are Met

We reviewed the Texas SIP submittals and concluded they meet the general SIP requirements under section 110 and the specific Part D Nonattainment Area requirements. The general requirements under section 110 include SIP adoption after reasonable public notice. The Part D requirements include the attainment demonstration being approved (see pages 9-10 of the TSD).

B. The 2012 Request To Approve the State's Attainment Demonstration for the 2008 Pb NAAQS

Section 172 of the CAA, along with implementation guidance published by EPA for the 2008 Pb standard,³ requires the state to submit a SIP revision containing an analysis of reasonably available control measures and reasonably available control technology; a demonstration of attainment through air dispersion modeling; a control strategy demonstration; an emissions inventory; a demonstration of reasonable further progress, and contingency measures.

³ See 73 FR 66964, November 12, 2008.

On October 17, 2012, TCEQ submitted a request to revise the Texas SIP for control of Pb emission in the Collin County NAA. The request addressed the six necessary elements described in Section III. B. above. A complete and thorough analysis of the state's October 17, 2012 submittal can be found in the TSD to this action. As a result of our analysis we are taking direct final action to approve the state's request for approval to the SIP to include their plan to demonstrate attainment with the 2008 Pb NAAQS. The TCEQ appropriately addressed all of the required elements and provided adequate public notice of changes to state rules to bring about compliance with the 2008 Pb NAAQS, conducted a public hearing and provided an opportunity for public comment.

As part of the submittal the state provided an enforceable commitment from Exide in the form of an agreed order that proscribed technical improvements to the capture and control of Pb particulate emissions caused by the Exide lead acid recycling operation. Before the new control measures were to go into effect at the facility, however, Exide decided to cease operations. The entire production area of the facility was dismantled. There are no longer smelting operations at the site and no longer any point source emissions, therefore we do not expect these control options to be implemented. Exide is in the process of doing site remediation under its RCRA permit.

C. The 2009 Request To Approve the Second 10-Year Maintenance Plan for the 1978 Pb NAAQS

Section 175A(b) of the CAA requires a state submit a SIP revision for maintenance of the Primary NAAQS for a second 10-year period following expiration of the first 10-year maintenance plan. As described in Section III. C. above, the maintenance plan must contain a commitment to assure the ambient air quality meets the NAAQS and a requirement to implement one or more contingency measures if a quarterly monitored average ambient Pb value exceeds the 1978 Pb NAAQS of 1.5 μg/m³.

On September 23, 2009, TCEQ submitted a SIP revision for the Collin County area to include a second 10-year maintenance plan for the 1978 Pb NAAQS. The EPA had earlier found the Collin County area to be in compliance with the 1978 Pb NAAQS on December 13, 1999.⁴ The second 10-year maintenance plan included: (1) An Agreed Order with Exide assuring the measures included in the maintenance plant were legally enforceable; (2) monitoring plans, to assure continued compliance with the 1978 Pb standard; and (3) action and contingency plans to deal with measured exceedance of the standard. We are taking direct final action to approve the state's revision to the SIP. A complete analysis of the plan and our rationale for approval is included in the TSD to this action.

⁴ See 64 FR 60930.

V. What are the effects of EPA's actions?

This action approves the Texas' redesignation request and changes the legal designation of the portion of Collin County, Texas in the vicinity of the former Exide facility NAA from nonattainment to attainment for the 2008 Pb NAAQS, found at 40 CFR part 81. This action approves the maintenance plan SIP revision and incorporates it into the EPA approved Texas SIP a plan for maintaining the 2008 Pb NAAQS. This action approves the SIP revisions for the 2008 Pb NAAQS attainment demonstration and the second 10-year maintenance plan for the 1978 Pb NAAQS and will incorporate these revisions into the EPA approved Texas SIP.

VI. Final Action

We are approving a request from the State of Texas to redesignate the Collin County Pb NAA to attainment for the 2008 Pb NAAQS. We determined that the Collin County Pb NAA has attained the 2008 Pb NAAQS, based on complete, quality-assured, and certified ambient air quality monitoring data for 2013-2015. In approving the redesignation request, we also approve as a revision to the Texas SIP, a maintenance plan for the 2008 Pb NAAQS in the NAA. We are also approving as revisions to the Texas SIP an attainment demonstration for the 2008 Pb NAAQS, which includes an Agreed Order for the Exide facility, and a second 10-year maintenance plan for the 1978 Pb NAAQS.

The EPA is publishing this rule without prior proposal because we view this as a non-controversial amendment and anticipate no relevant adverse comments. However, in the proposed rules section of this Federal Register publication, we are publishing a separate document that will serve as the proposal to approve the SIP revision if relevant adverse comments are received. This rule will be effective on September 27, 2017 without further notice unless we receive relevant adverse comment by July 31, 2017. If we receive relevant adverse comments, we will publish a timely withdrawal in the Federal Register informing the public that the rule will not take effect. We will address all public comments in a subsequent final rule based on the proposed rule. We will not institute a second comment period on this action. Any parties interested in commenting must do so now. Please note that if we receive relevant adverse comment on an amendment, paragraph, or section of this rule and if that provision may be severed from the remainder of the rule, we may adopt as final those provisions of the rule that are not the subject of an adverse comment.

VII. Incorporation by Reference

In this rule, we are finalizing regulatory text that includes incorporation by reference. In accordance with the requirements of 1 CFR 51.5, we are finalizing the incorporation by reference the Agreed Order for Exide Technologies as described in the Final Action section above. We have made, and will continue to make, these documents generally available electronically through www.regulations.gov and/or in hard copy at the EPA Region 6 office.

VIII. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 28, 2017. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

Samuel Coleman was designated the Acting Regional Administrator on June 14, 2017 through the order of succession outlined in Regional Order R6-1110.13, a copy of which is included in the docket for this action.

List of Subjects

40 CFR 52

Environmental protection, Air pollution control, Incorporation by reference, Intergovernmental relations, Lead, Reporting and recordkeeping requirements.

40 CFR 81

Environmental protection, Air pollution control.

Dated: June 14, 2017.
Samuel Coleman,
Acting Regional Administrator, Region 6.

40 CFR parts 52 and 81 are amended as follows:

PART 52—APPROVAL AND PROMULGATION OF IMPLEMENTATION PLANS

1. The authority citation for part 52 continues to read as follows:

Authority: 42 U.S.C. 7401 et seq.

Subpart SS—Texas

2. In § 52.2270:

a. In paragraph (d), the table titled “EPA Approved Texas Source-Specific Requirements” is amended by adding an entry for “Exide Technologies” at the end of the table.

b. In paragraph (e), the second table titled “EPA Approved Nonregulatory Provisions and Quasi-Regulatory Measures in the Texas SIP” is amended by adding entries for “Second 10-year Lead maintenance plan for 1978 Lead NAAQS”, “Lead Attainment Demonstration for 2008 Lead NAAQS”, and “Maintenance Plan for 2008 Lead NAAQS” at the end of the table.

The additions read as follows:

§ 52.2270 Identification of plan.

* * * * *

(d) * * *

EPA Approved Texas Source-Specific Requirements
Name of source | Permit or order No. | State effective date | EPA approval date | Comments
| * * * * * * *
Exide Technologies | Agreed Order No. 2011-0521-MIS | 8/14/2012 | 6/29/2017, [Insert Federal Register citation] |

(e) * * *

EPA Approved Nonregulatory Provisions and Quasi-Regulatory Measures in the Texas SIP
Name of SIP provision | Applicable geographic or nonattainment area | State Submittal/ effective date | EPA approval date | Comments
* * * * * * *
Second 10-year Lead maintenance plan for 1978 Lead NAAQS | Collin County, TX | 9/15/2009 | 6/29/2017, [Insert Federal Register citation] |
Lead Attainment Demonstration for 2008 Lead NAAQS | Collin County, TX | 10/10/2012 | 6/29/2017, [Insert Federal Register citation] |
Maintenance Plan for 2008 Lead NAAQS | Collin County, TX | 11/02/2016 | 6/29/2017, [Insert Federal Register citation] |

PART 81—DESIGNATION OF AREAS FOR AIR QUALITY PLANNING PURPOSES

3. The authority citation for part 81 continues to read as follows:

Authority: 42 U.S.C. 7401, et seq.

4. In § 81.344, the table titled “Texas-2008 Lead NAAQS” is amended by revising the entry for Frisco, TX to read as follows:

§ 81.344 Texas.

* * * * *

Texas—2008 Lead NAAQS
Designated area | Designation for the 2008 NAAQS ᵃ: Date ¹ | Designation for the 2008 NAAQS ᵃ: Type
* * * * * * *
Frisco, TX | 9/27/2017 | Attainment
Collin County (part)
The area immediately surrounding the Exide Technologies battery recycling plant in Frisco, bounded to the north by latitude 33.153 North, to the east by longitude 96.822 West, to the south by latitude 33.131 North, and to the west by longitude 96.837 West
* * * * * * *
ᵃ Includes Indian County located in each county or area, except as otherwise specified.
¹ December 31, 2011 unless otherwise noted.

[FR Doc. 2017-13479 Filed 6-28-17; 8:45 am]

BILLING CODE 6560-50-P